DEPARTMENT OF ENERGY

Federal Energy Regulatory Commission

Notice of Amendment of License and Soliciting Comments, Motions To Intervene, and Protests

March 1, 2001.

Take notice that the following hydroelectric application has been filed with the Commission and is available for public inspection:

a: Application Type: Amendment of License.

b: Project No.: 9025-012.

c: Date Filed: January 31, 2001.

d: Applicant: Hancock Hydro Inc.

e: Name of Project: Hancock Creek Hydroelectric Project.

f: Location: The Hancock Creek Hydroelectric Project will be sited on Hancock Creek within the Snoqualmie River Basin of King County, Washington. No federal lands would be affected.

g: Filed Pursuant to: Federal Power Act, 16 U.S.C. 791(a)-825(r).

h: Applicant Contact: Cheryl Krueger, Hancock Hydro, Inc., 19515 North Creek Parkway, Suite 310, Bothell, WA 98011; (425) 487-6541.

i. FERC Contact: Questions about this notice can be answered by Kenneth Hogan at (202) 208-0434 or e-mail address: kenneth.hogan@ferc.fed.us. The Commission cannot accept comments, recommendations, motions to intervene or protests sent by e-mail; these documents must be filed as described below.

j. Deadline for filing comments, terms and conditions, motions to intervene, and protests: 30 days from the issuance date of this notice.

All documents (original and eight copies) should be filed with: David P. Boergers, Secretary, Federal Energy Regulatory Commission, 888 First Street, NE., Washington, DC 20426. Comments and protests may be filed electronically via the internet in lieu of paper. See, 18 CFR 385.2001(a)(1)(iii) and the instructions on the Commission's web site at http://www.ferc.fed.us/efi/doorbell.htm.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Hancock Creek Hydro Inc., has applied for license amendment to the Hancock Creek Hydroelectric Project. The current license for the project was issued on June 23, 1993. On April 25, 1995, the Commission issued an order granting an extension of time with a construction commencement date of June 21, 1997, and construction completion June 21, 1999. On March 26, 1999, the Commission issued another order extending the date for the project's construction commencement and construction completion to June 21, 2001 and June 21, 2003, respectively. No project facilities have been constructed to date.

The licensee has requested an amendment to change the project capacity from 6.3 MW to 7.4 MW with a 14.8 percent increase in hydraulic capacity to allow maximum power production during high flows; modify the intake and diversion structures to accommodate the increased flow needed to support the increased generation capacity, including an increase of surface area to the fish screens; reroute the first 2,500 feet of penstock to avoid a 0.46 acre sphagnum bog/wetland; bury the first 2,500 feet of the penstock to a depth of about 100 feet to eliminate the need for the approved siphon; shift the location of the powerhouse slightly to facilitate the use of an existing access road and create a short spur road, allowing access to the powerhouse from the north instead of the east, improving the aesthetics in the area; change the current tailrace design from a 140-foot-long buried pipe to a slightly shorter open channel, and modify the overhead transmission line, proposed in the current license, to a buried transmission line to provide greater reliability, visual benefits and eliminate the need for raptor protection.

l. A copy of the application is available for inspection and reproduction at the Commission's Public Reference Room at 888 First Street, NE., Room 2A, Washington, DC 20426, or by calling (202) 208-1371. The application may be viewed on the web at http://www.ferc.fed.us/online/rims.htm. Call (202) 208-2222 for assistance. A copy is also available for inspection and reproduction at the address in item (h) above.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “RECOMMENDATIONS FOR TERMS AND CONDITIONS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

David P. Boergers,
Secretary.

[FR Doc. 01-5532 Filed 3-6-01; 8:45 am]

BILLING CODE 6717-01-M